FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 011579-013.

Title: Inland Shipping Service Association Agreement.

Parties: APL Co. PTE Ltd.; Crowley Liner Services, Inc.; Seaboard Marine, Ltd.; and Seaboard Marine of Florida, Inc.

Filing Party: Wayne R. Rohde, Esq.; Sher & Blackwell; 1850 M Street, NW., Suite 900, Washington, DC 20036.

Synopsis: The amendment adds the Dominican Republic to the scope of the agreement, and corrects the address of Seaboard Marine.

By order of the Federal Maritime Commission.
Dated: July 11, 2008.
Karen V. Gregory,
Assistant Secretary.

[FR Doc. E8-16253 Filed 7-15-08; 8:45 am]

BILLING CODE 6730-01-P